DEPARTMENT OF LABOR

Employment and Training Administration

[TA-W-71,132]

General Motors Corporation Grand Rapids Metal Center Metal Fabricating Division Including On-Site Leased Workers From Securitas, Premier, EDS and Quaker Chemical Grand Rapids, MI; Amended Certification Regarding Eligibility To Apply for Worker Adjustment Assistance

In accordance with Section 223 of the Trade Act of 1974, as amended (“Act”), 19 U.S.C. 2273, the Department of Labor issued a Certification of Eligibility to Apply for Worker Adjustment Assistance on March 18, 2010, applicable to workers of General Motors Corporation, Grand Rapids Metal Center, Metal Fabricating Division, including on-site leased workers from Securitas, Premier and EDS, Grand Rapids, Michigan. The notice was published in the Federal Register on April 23, 2010 (75 FR 21356).

At the request of the State agency, the Department reviewed the certification for workers of the subject firm. The workers are engaged in activities related to the production of metal stampings and sub-assembled metal sheet components.

The company reports that workers leased from Quaker Chemical were employed on-site at the Grand Rapids, Michigan location of General Motors Corporation, Grand Rapids Metal Center, Metal Fabricating Division. The Department has determined that these workers were sufficiently under the control of General Motors Corporation, Grand Rapids Metal Center, Metal Fabricating Division to be considered leased workers.

Based on these findings, the Department is amending this certification to include workers leased from Quaker Chemical working on-site at the Grand Rapids, Michigan location of General Motors Corporation, Grand Rapids Metal Center, Metal Fabricating Division.

The amended notice applicable to TA-W-71,132 is hereby issued as follows:

All workers of General Motors Corporation, Grand Rapids Fabrication Center, Metal Fabrication Division, including on-site leased workers from Quaker Chemical, Grand Rapids, Michigan, who became totally or partially separated from employment on or after May 20, 2008, through March 18, 2012, and all workers in the group threatened with total or partial separation from employment on the date of certification through two years from the date of certification, are eligible to apply for adjustment assistance under Chapter 2 of Title II of the Trade Act of 1974, as amended.

Signed at Washington, DC, this 18th day of November 2010.
Michael W. Jaffe,
Certifying Officer, Division of Trade Adjustment Assistance.

[FR Doc. 2010-30541 Filed 12-6-10; 8:45 am]

BILLING CODE 4510-FN-P